ENVIRONMENTAL PROTECTION AGENCY

[ER-FRL-6646-9]

Environmental Impact Statements; Notice of Availability

Responsible Agency: Office of Federal Activities, General Information (202) 564-7167 or http://www.epa.gov/compliance/nepa, Weekly receipt of Environmental Impact Statements Filed December 22, 2003 Through December 24, 2003 Pursuant to 40 CFR 1506.9.

EIS No. 030576, Draft EIS, FHW, ND, United States Highway 2 (U.S. 2) Project, Improves from the Junction of U.S. 85 (milepost 31.93) to West of U.S. 52 (milepost 131.24), Funding, NPDES and U.S. Army COE Section 404 Permits, Williams, Mountrail and Ward Counties, ND, Comment Period Ends: February 6, 2004, Contact: Mark Schrader (701) 250-4343, Ext. 111.

The above FHW EIS should have appeared in the 12/24/2003 Federal Register. The 45-day Comment Period is Calculated from 12/24/2003.

EIS No. 030577, Regulatory Final EIS, FRA, Interim Final Rule for the Use of Locomotive Horns at Highway-Rail Grade Crossings in the United States, Wait Period Ends: January 22, 2004, Contact: David Valenstein (202) 493-6368.

This document is available on the Internet at: http://www.fra.dot.gov.

The above FRA EIS should have appeared in the 12-24-2003 Federal Register. The 30-day Wait Period is Calculated from 12/24/2003.

EIS No. 030578, Draft EIS, IBW, TX, NM, Rio Grande Canalization Project (RGCP), Long-Term River Management Alternatives Practices, Implementation, Extends from below Percha Dam in Sierra County, NM to American Dam in El Paso, TX, Comment Period Ends: February 10, 2004, Contact: Douglas Echlin (915) 832-4741.

This document is available on the Internet at: http://www.ibwc.state.gov.

The above IBW EIS should have appeared in the 12-24-2003 Federal Register. The 45-day Comment Period is Calculated from 12-24-2003.

EIS No. 030579, Final EIS, NPS, OH, Cuyahoga Valley National Park Rural Landscape Management Program, Rural Landscape Resources Preservation and Protection, Cuyahoga River, Cuyahoga and Summit Counties, OH, Wait Period Ends: January 22, 2004, Contact: John P. Debo, Jr. (440) 546-5903.

The above NPS EIS should have appeared in the 12-24-2003 Federal Register. The 30-day Wait Period is Calculated from 12-24-2003.

EIS No. 030580, Draft EIS, NPS, NY, Saratoga National Historical Park General Management Plan, Implementation, Hudson River Valley, Towns of Stillwater and Saratoga, Saratoga County, NY, Comment Period Ends: March 1, 2004, Contact: Doug Lindsay (518) 664-9821.

EIS No. 030581, Draft Supplement, COE, PR, Port of the Americas Project, Additional Information on the Development of a Deep-Draft Terminal at the Port of Ponce to Receive Post-Panamax Ships, COE Section 10 and 404 Permits, Municipalities of Guyanilla-Penuelas and Ponce, Puerto Rico, Comment Period Ends: February 17, 2004, Contact: Edwin E. Muniz (787) 729-6905.

EIS No. 030582, Draft EIS, AFS, WY, ID, High Mountains Heli-Skiing (HMH) Project, Issuance of a New 5-Year Special Use Permit (SUP) to Continue Operating a Guided Helicopter Skiing, in Portions of the Bridger-Teton National Forest and Caribou-Targhee National Forest (CTNF), Teton and Lincoln Counties, WY and Teton and Bonneville Counties, ID, Comment Period Ends: February 17, 2004, Contact: Ray Spencer (307) 739-5400.

EIS No. 030583, Final EIS, COE, FL, Broward County Shore Protection Project, Fill Placement in Segment II (Hillsboro Inlet to Port Everglades) and Segment III (Port Everglades to the south County Line), Broward County, FL, Wait Period Ends: February 2, 2004, Contact: Ms. Terri Jordan (904) 232-1817.

EIS No. 030584, Final EIS, NOA, WA, CA, OR, U.S. West Coast Fisheries for Highly Migratory Species Fishery Management Plan (FMP), Approval and Implementation, Ocean Waters off the States of Washington, Oregon and California a portion of the Exclusive Economic Zone (EEZ), WA, OR and CA, Wait Period Ends: February 2, 2004, Contact: Rod McInnis (562) 980-4000.

EIS No. 030585, Final EIS, AFS, CA, Emigrant Wilderness Dams Project, Reconstruct, Repair, Maintain and Operate 12 Dams; Snow, Bigelow, Huckleberry, Emigrant Meadow, Middle Emigrant, Emigrant, Leighton, Long, Lower Buck, Y-Meadow and Bear, Stanislaus National Forest, Summer Ranger District, Tuolumne County, CA, Wait Period Ends: February 2, 2004, Contact: John J. Maschi (209) 532-3671 Ext. 317.

This document is available on the Internet at: http://www.fs.fed.us.r5/stanislaus/projects/emigrant.

EIS No. 030586, Draft EIS, UAF, HI, Johnston Atoll Airfield (Installation), Termination of the Air Force Mission, Johnston Atoll, Implementation, Honolulu, HI, Comment Period Ends: February 17, 2004, Contact: Patricia J. Vokoun (703) 604-5263.

EIS No. 030587, Draft EIS, FHW, WA, OR, WA-35 Columbia River Crossing, Proposal to build a New Bridge across the Columbia River between Hood River, Hood River, OR and White Salmon, WA, Comment Period Ends: February 17, 2004, Contact: Michael Kulbacki (360) 753-9556.

EIS No. 030588, Draft EIS, BLM, Programmatic EIS—Proposed Revision to Grazing Regulations for the Public Lands, 42 CFR Part 4100, In the Western Portion of the United States, Comment Period Ends: March 2, 2004, Contact: Molly S. Brady (202) 452-7714.

This document is available on the Internet at: http://www.blm.gov/grazing.

EIS No. 030589, Final EIS, FHW, MN, Trunk Highway 371 Corridor Reconstruction, U.S. Truck Highway 10 to County State Aid Highway (CSAH) Highway 48, Funding, Morrison County, MN, Wait Period Ends: February 2, 2004, Contact: Cheryl Martin (651) 291-6120.

EIS No. 030590, Final EIS, COE, NJ, Union Beach Community Project, Provision of Hurricane and Storm Damage Reduction to Residential, Commercial and Recreational Resources, Located along the Raritan Bay and Sandy Hook Bay Shoreline, Monmouth County, NJ, Wait Period Ends: February 2, 2004, Contact: Mark H. Burlas (212) 264-4663.

Dated: December 29, 2003.
Joseph C. Montgomery,
Director, NEPA Compliance Division Office of Federal Activities.

[FR Doc. 03-32313 Filed 12-31-03; 8:45 am]

BILLING CODE 6560-50-P